Title 3—

The President

Memorandum of June 20, 2014

Creating a Federal Strategy To Promote the Health of Honey Bees and Other Pollinators

Memorandum for Heads of Executive Departments and Agencies

Pollinators contribute substantially to the economy of the United States and are vital to keeping fruits, nuts, and vegetables in our diets. Honey bee pollination alone adds more than $15 billion in value to agricultural crops each year in the United States. Over the past few decades, there has been a significant loss of pollinators, including honey bees, native bees, birds, bats, and butterflies, from the environment. The problem is serious and requires immediate attention to ensure the sustainability of our food production systems, avoid additional economic impact on the agricultural sector, and protect the health of the environment.

Pollinator losses have been severe. The number of migrating Monarch butterflies sank to the lowest recorded population level in 2013-14, and there is an imminent risk of failed migration. The continued loss of commercial honey bee colonies poses a threat to the economic stability of commercial beekeeping and pollination operations in the United States, which could have profound implications for agriculture and food. Severe yearly declines create concern that bee colony losses could reach a point from which the commercial pollination industry would not be able to adequately recover. The loss of native bees, which also play a key role in pollination of crops, is much less studied, but many native bee species are believed to be in decline. Scientists believe that bee losses are likely caused by a combination of stressors, including poor bee nutrition, loss of forage lands, parasites, pathogens, lack of genetic diversity, and exposure to pesticides.

Given the breadth, severity, and persistence of pollinator losses, it is critical to expand Federal efforts and take new steps to reverse pollinator losses and help restore populations to healthy levels. These steps should include the development of new public-private partnerships and increased citizen engagement. Therefore, by the authority vested in me as President by the Constitution and the laws of the United States of America, I hereby direct the following:

Section 1. Establishing the Pollinator Health Task Force. There is hereby established the Pollinator Health Task Force (Task Force), to be co-chaired by the Secretary of Agriculture and the Administrator of the Environmental Protection Agency. In addition to the Co-Chairs, the Task Force shall also include the heads, or their designated representatives, from:

(a) the Department of State;

(b) the Department of Defense;

(c) the Department of the Interior;

(d) the Department of Housing and Urban Development;

(e) the Department of Transportation;

(f) the Department of Energy;

(g) the Department of Education;

(h) the Council on Environmental Quality;

(i) the Domestic Policy Council;

(j) the General Services Administration;

(k) the National Science Foundation;

(l) the National Security Council Staff;

(m) the Office of Management and Budget;

(n) the Office of Science and Technology Policy; and

(o) such executive departments, agencies, and offices as the Co-Chairs may designate.

Sec. 2. Mission and Function of the Task Force. Within 180 days of the date of this memorandum, the Task Force shall develop a National Pollinator Health Strategy (Strategy), which shall include explicit goals, milestones, and metrics to measure progress. The Strategy shall include the following components:

(a) Pollinator Research Action Plan. The Strategy shall include an Action Plan (Plan) to focus Federal efforts on understanding, preventing, and recovering from pollinator losses. The Plan shall be informed by research on relevant topics and include:

(i) studies of the health of managed honey bees and native bees, including longitudinal studies, to determine the relative contributions of, and mitigation strategies for, different stressors leading to species declines and colony collapse disorder, including exposure to pesticides, poor nutrition, parasites and other pests, toxins, loss of habitat and reduced natural forage, pathogens, and unsustainable management practices;

(ii) plans for expanded collection and sharing of data related to pollinator losses, technologies for continuous monitoring of honey bee hive health, and use of public-private partnerships, as appropriate, to provide information on the status and trends of managed hive losses;

(iii) assessments of the status of native pollinators, including the Monarch butterfly and bees, and modeling of native pollinator populations and habitats;

(iv) strategies for developing affordable seed mixes, including native pollinator-friendly plants, for maintenance of honey bees and other pollinators, and guidelines for and evaluations of the effectiveness of using pollinator-friendly seed mixes for restoration and reclamation projects;

(v) identification of existing and new methods and best practices to reduce pollinator exposure to pesticides, and new cost-effective ways to control bee pests and diseases; and

(vi) strategies for targeting resources toward areas of high risk and restoration potential and prioritizing plans for restoration of pollinator habitat, based on those areas that will yield the greatest expected net benefits.

(b) Public Education Plan. The Strategy shall include plans for expanding and coordinating public education programs outlining steps individuals and businesses can take to help address the loss of pollinators. It shall also include recommendations for a coordinated public education campaign aimed at individuals, corporations, small businesses, schools, libraries, and museums to significantly increase public awareness of the importance of pollinators and the steps that can be taken to protect them.

(c) Public-Private Partnerships. The Strategy shall include recommendations for developing public-private partnerships to build on Federal efforts to encourage the protection of pollinators and increase the quality and amount of habitat and forage for pollinators. In developing this part of the Strategy, the Task Force shall consult with external stakeholders, including State, tribal, and local governments, farmers, corporations, and nongovernmental organizations.

(d) Task Force member agencies shall report regularly to the Task Force on their efforts to implement section 3 of this memorandum.

Sec. 3. Increasing and Improving Pollinator Habitat. Unless otherwise specified, within 180 days of the date of this memorandum:

(a) Task Force member agencies shall develop and provide to the Task Force plans to enhance pollinator habitat, and subsequently implement, as appropriate, such plans on their managed lands and facilities, consistent with their missions and public safety. These plans may include: facility landscaping, including easements; land management; policies with respect to road and other rights-of-way; educational gardens; use of integrated vegetation and pest management; increased native vegetation; and application of pollinator-friendly best management practices and seed mixes. Task Force member agencies shall also review any new or renewing land management contracts and grants for the opportunity to include requirements for enhancing pollinator habitat.

(b) Task Force member agencies shall evaluate permit and management practices on power line, pipeline, utility, and other rights-of-way and easements, and, consistent with applicable law, make any necessary and appropriate changes to enhance pollinator habitat on Federal lands through the use of integrated vegetation and pest management and pollinator-friendly best management practices, and by supplementing existing agreements and memoranda of understanding with rights-of-way holders, where appropriate, to establish and improve pollinator habitat.

(c) Task Force member agencies shall incorporate pollinator health as a component of all future restoration and reclamation projects, as appropriate, including all annual restoration plans.

(d) The Council on Environmental Quality and the General Services Administration shall, within 90 days of the date of this memorandum, revise their respective guidance documents for designed landscapes and public buildings to incorporate, as appropriate, pollinator-friendly practices into site landscape performance requirements to create and maintain high quality habitats for pollinators. Future landscaping projects at all Federal facilities shall, to the maximum extent appropriate, use plants beneficial to pollinators.

(e) The Departments of Agriculture and the Interior shall, within 90 days of the date of this memorandum, develop best management practices for executive departments and agencies to enhance pollinator habitat on Federal lands.

(f) The Departments of Agriculture and the Interior shall establish a reserve of native seed mixes, including pollinator-friendly plants, for use on post-fire rehabilitation projects and other restoration activities.

(g) The Department of Agriculture shall, as appropriate and consistent with applicable law, substantially increase both the acreage and forage value of pollinator habitat in the Department's conservation programs, including the Conservation Reserve Program, and provide technical assistance, through collaboration with the land-grant university-based cooperative extension services, to executive departments and agencies, State, local, and tribal governments, and other entities and individuals, including farmers and ranchers, in planting the most suitable pollinator-friendly habitats.

(h) The Department of the Interior shall assist States and State wildlife organizations, as appropriate, in identifying and implementing projects to conserve pollinators at risk of endangerment and further pollinator conservation through the revision and implementation of individual State Wildlife Action Plans. The Department of the Interior shall, upon request, provide technical support for these efforts, and keep the Task Force apprised of such collaborations.

(i) The Department of Transportation shall evaluate its current guidance for grantees and informational resources to identify opportunities to increase pollinator habitat along roadways and implement improvements, as appropriate. The Department of Transportation shall work with State Departments of Transportation and transportation associations to promote pollinator-friendly practices and corridors. The Department of Transportation shall evaluate opportunities to make railways, pipelines, and transportation facilities that are privately owned and operated aware of the need to increase pollinator habitat.

(j) The Department of Defense shall, consistent with law and the availability of appropriations, support habitat restoration projects for pollinators, and shall direct military service installations to use, when possible, pollinator-friendly native landscaping and minimize use of pesticides harmful to pollinators through integrated vegetation and pest management practices.

(k) The Army Corps of Engineers shall incorporate conservation practices for pollinator habitat improvement on the 12 million acres of lands and waters at resource development projects across the country, as appropriate.

(l) The Environmental Protection Agency shall assess the effect of pesticides, including neonicotinoids, on bee and other pollinator health and take action, as appropriate, to protect pollinators; engage State and tribal environmental, agricultural, and wildlife agencies in the development of State and tribal pollinator protection plans; encourage the incorporation of pollinator protection and habitat planting activities into green infrastructure and Superfund projects; and expedite review of registration applications for new products targeting pests harmful to pollinators.

(m) Executive departments and agencies shall, as appropriate, take immediate measures to support pollinators during the 2014 growing season and thereafter. These measures may include planting pollinator-friendly vegetation and increasing flower diversity in plantings, limiting mowing practices, and avoiding the use of pesticides in sensitive pollinator habitats through integrated vegetation and pest management practices.

Sec. 4. General Provisions. (a) This memorandum shall be implemented consistent with applicable law and subject to the availability of appropriations.

(b) Nothing in this memorandum shall be construed to impair or otherwise affect:

(i) the authority granted by law to any agency, or the head thereof; or

(ii) the functions of the Director of the Office of Management and Budget relating to budgetary, administrative, or legislative proposals.

(c) Nothing in this memorandum shall be construed to require the disclosure of confidential business information or trade secrets, classified information, law enforcement sensitive information, or other information that must be protected in the interest of national security or public safety.

(d) This memorandum is not intended to, and does not, create any right or benefit, substantive or procedural, enforceable at law or in equity by any party against the United States, its departments, agencies, or entities, its officers, employees, or agents, or any other person.

(e) The Secretary of Agriculture is hereby authorized and directed to publish this memorandum in the Federal Register.

THE WHITE HOUSE,

Washington, June 20, 2014

[FR Doc. 2014-14946

Filed 6-23-14; 11:15 am]

Billing code 3410-10